FEDERAL COMMUNICATIONS COMMISSION

[GN Docket No. 14-28; DA 14-1410]

Panelist Information for Open Internet Roundtables; Correction

AGENCY: Federal Communications Commission.

ACTION: Notice; correction.

SUMMARY: The Commission submitted a document on September 29, 2014 for publication in the Federal Register concerning a public notice announcing panelist names and other information for a series of roundtables. The intended effect of this document was to make the public aware of the event and the agenda for the roundtables. The document contained incorrect times.

FOR FURTHER INFORMATION CONTACT: Andrew Erber, Office of General Counsel at (202) 418-0678 or by email at Andrew.Erber@fcc.gov.

Correction

In the Federal Register summary published on October 3, 2014 at 79 FR 59770 correct the “Proposed Agenda” caption to read:

Proposed Agenda:

The Office of General Counsel of the Federal Communications Commission (FCC) provides panelist names and other information about the final event in the Open Internet roundtable series: “Internet Openness and the Law,” which will take place on October 7, 2014. This roundtable was previously announced in a Public Notice. At that time, it was unclear whether the roundtable would be a “meeting” of the Commission. As such, that Notice was not published in the Federal Register. This Notice shall serve as notice that a quorum of Commissioners may be present at the roundtable, in compliance with part 0, subpart F of the Commission's rules. This Notice does not, however, change the “permit-but-disclose” status of the Open Internet proceeding under the Commission's ex parte rules.

Internet Openness and the Law

9:30-9:45 a.m. Welcome and Opening Remarks

9:45-11:15 a.m. Roundtable 1: Sources of Legal Authority

This roundtable will discuss the sources of authority on which the Commission could ground Open Internet rules, including a range of approaches relying on Section 706, Title II, and other possible sources of authority.

Panelists:

Mark Cooper, Director of Research, Consumer Federation of America

Gus Hurwitz, Assistant Professor of Law, Nebraska College of Law

Pantelis Michalopoulos, Partner, Steptoe & Johnson LLP

Thomas Navin, Partner, Wiley Rein LLP

Nuala O'Connor, President and CEO, Center for Democracy and Technology

Tim Wu, Professor of Law, Columbia Law School

Moderators:

Jonathan Sallet, General Counsel, FCC

Stephanie Weiner, Special Advisor to the Chairman on Internet Law and Policy & Associate General Counsel, FCC

11:30 a.m.-1:00 p.m. Roundtable 2: Construction of Legally Sustainable Rules

This roundtable will consider additional legal issues, including constitutional considerations, the nature of common-carriage regulation, and approaches to agency rulemaking and adjudication using tools like prescriptive rules, legal standards, prohibitions, and presumptions to protect and promote Internet openness.

Panelists:

Marvin Ammori, Fellow, New America Foundation

Anne Boyle, Commissioner, Nebraska Public Service Commission

Fred Campbell, Director, Center for Boundless Innovation in Technology

Julia Johnson, Chair, Minority Media & Telecommunications Council

Tejas Narechania, Julius Silver Research Fellow, Columbia Law School

John Windhausen, Jr., President, Telepoly Consulting

Federal Communications Commission.
Dated: October 3, 2014.
Stephanie Weiner,
Associate General Counsel.

[FR Doc. 2014-24202 Filed 10-15-14; 8:45 am]

BILLING CODE 6712-01-P